FEDERAL ELECTION COMMISSION

Sunshine Act Meetings

FEDERAL REGISTER CITATION NOTICE OF PREVIOUS ANNOUNCEMENT: 90 FR 8215.

PREVIOUSLY ANNOUNCED TIME AND DATE OF THE MEETING: Thursday, January 30, 2025 at 10 a.m.

HYBRID MEETING: 1050 First Street NE, Washington, DC (12th Floor) and virtual.

CHANGE IN THE MEETING: The following items were also discussed:

Sample Donor Response Form for Contributions by LLCs

Two-Year Renewal of Directive 74

CONTACT PERSON FOR MORE INFORMATION: Judith Ingram, Press Officer. Telephone: (202) 694-1220.

(Authority: Government in the Sunshine Act, 5 U.S.C. 552b)

Vicktoria J. Allen,
Deputy Secretary of the Commission.

[FR Doc. 2025-02210 Filed 1-30-25; 4:15 pm]

BILLING CODE 6715-01-P